DEPARTMENT OF COMMERCE

Foreign-Trade Zones Board

[Docket 9-2002]

Proposed Foreign-Trade Zone—Roswell, New Mexico, Application and Public Hearing

An application has been submitted to the Foreign-Trade Zones (FTZ) Board (the Board) by the City of Roswell, New Mexico, to establish a general-purpose foreign-trade zone in Roswell, New Mexico. The applicant has submitted an application to the U.S. Customs Service to have the Roswell Industrial Air Center designated as a Customs user fee airport. The FTZ application was submitted pursuant to the provisions of the FTZ Act, as amended (19 U.S.C. 81a-81u), and the regulations of the Board (15 CFR part 400). It was formally filed on February 5, 2002. The applicant is authorized to make the proposal under Section 3-18-29, New Mexico Statutes Annotated, 1978.

The proposed zone (524 acres) would be located at the 4,600-acre Roswell Industrial Air Center (RIAC), six miles south of the City of Roswell, at the intersection of S. Main Street and Hobson Road. RIAC is a former military base (Walker Air Force Base) that has been converted to a commercial airport/industrial park complex. The facility is owned by the City, which will administer the zone project.

The application indicates a need for zone services in the southeastern New Mexico region. Several firms have indicated an interest in using zone procedures for such items as fiberglass products, tree ornaments, fasteners and aircraft parts. Specific manufacturing approvals are not being sought at this time. Requests would be made to the Board on a case-by-case basis.

In accordance with the Board's regulations, a member of the FTZ Staff has been designated examiner to investigate the application and report to the Board.

As part of the investigation, the Commerce examiner will hold a public hearing on March 14, 2002, at 9 a.m., at the Roswell City Council Chambers (Top Floor), 425 North Richardson, Roswell, New Mexico 88201.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street NW, Washington, DC 20005; or

2. Submissions via the U.S. Postal Service: Foreign-Trade Zones Board, U.S. Department of Commerce, FCB—Suite 4100W, 1401 Constitution Avenue NW, Washington, DC 20230.

The closing period for their receipt is April 15, 2002. Rebuttal comments in response to material submitted during the foregoing period may be submitted during the subsequent 15-day period (to April 29, 2002).

A copy of the application and accompanying exhibits will be available for public inspection at the Office of the Foreign-Trade Zones Board's Executive Secretary at the first address listed above, and at the City of Roswell Mayor's Office (Main Floor), 425 North Richardson, Roswell, New Mexico 88201.

Dated: February 5, 2002.
Dennis Puccinelli,
Executive Secretary.

[FR Doc. 02-3542 Filed 2-12-02; 8:45 am]

BILLING CODE 3510-DS-P